DEPARTMENT OF COMMERCE

National Oceanic and Atmospheric Administration

[RTID 0648-XF031]

Marine Mammals; File No. 28931

AGENCY: National Marine Fisheries Service (NMFS), National Oceanic and Atmospheric Administration (NOAA), Commerce.

ACTION: Notice; issuance of permit.

SUMMARY: Notice is hereby given that a permit has been issued to Passion Planet, 33-34 Rathbone Place, London, W1T 1JN, United Kingdom (Responsible Party: David Allen) to conduct commercial and educational photography of marine mammals.

ADDRESSES: The permit and related documents are available for review upon written request via email to NMFS.Pr1Comments@noaa.gov.

FOR FURTHER INFORMATION CONTACT: Amy Hapeman, (301) 427-8401.

SUPPLEMENTARY INFORMATION: On May 23, 2025, notice was published in the Federal Register (90 FR 22063) that a request for a permit to conduct commercial and educational photography had been submitted by the above-named applicant. The requested permit has been issued under the authority of the Marine Mammal Protection Act of 1972, as amended (16 U.S.C. 1361 et seq.) and the regulations governing the taking and importing of marine mammals (50 CFR part 216).

The permit authorizes the permit holder to film marine mammals feeding on menhaden in the New York Bight for a three-part documentary series. Filmmakers may observe and collect footage of humpback whales (Megaptera novaeangliae), short-beaked common dolphins (Delphinus delphis), bottlenose dolphins (Tursiops truncatus), Risso's dolphins (Grampus griseus), and gray seals (Halichoerus grypus) from a vessel, underwater with a pole cam, and via an unmanned aircraft system. The permit is valid through July 31, 2027.

In compliance with the National Environmental Policy Act of 1969 (42 U.S.C. 4321 et seq.), a final determination has been made that the activity proposed is categorically excluded from the requirement to prepare an environmental assessment or environmental impact statement.

Dated: July 16, 2025.
Shannon Bettridge,
Chief, Marine Mammal and Sea Turtle Conservation Division, Office of Protected Resources, National Marine Fisheries Service.

[FR Doc. 2025-13583 Filed 7-18-25; 8:45 am]

BILLING CODE 3510-22-P